FEDERAL COMMUNICATIONS COMMISSION

[CC Docket Nos. 96-262, 94-1, 99-249, 96-45; DA 07-2968]

Reconsideration of CALLS Order

AGENCY: Federal Communications Commission.

ACTION: Notice.

SUMMARY: This document dismisses as moot the only remaining petition for reconsideration of the CALLS Order, 65 FR 38684, June 21, 2000.

DATES: Effective July 3, 2007.

ADDRESSES: This is a summary of the Commission's document in CC Docket Nos. 96-262, 94-1, 99-249, 96-45; DA 07-2968, released July 3, 2007. The full text of this document is available for public inspection and copying during business hours at the FCC Reference Information Center, Portals II, 445 12th St. SW., Room CY-A257, Washington, DC 20554. The documents may also be purchased from BCPI, telephone (202) 488-5300, facsimile (202) 488-5563, TTY (202) 488-5562, e-mail fcc@bcpiweb.com. These documents may also be viewed on the Commission's Web site at http://www.fcc.gov/cgb/ecfs. People with Disabilities: To request materials in accessible formats for people with disabilities (braille, large print, electronic files, audio format), send an e-mail to fcc504@fcc.gov or call the Consumer & Governmental Affairs Bureau at (202) 418-0530 (voice), (202) 418-0432 (tty).

FOR FURTHER INFORMATION CONTACT: Victoria Goldberg, Wireline Competition Bureau, Pricing Policy Division, (202) 418-1520, victoria.goldberg@fcc.gov.

SUPPLEMENTARY INFORMATION: After the Commission released the CALLS Order on May 31, 2000, 65 FR 38684, June 21, 2000, four parties filed petitions for reconsideration of that order. These petitions were filed by the Association for Local Telecommunications Services (ALTS) and Focal Communications Corp., One Call Communications, Inc., Pathfinder Communications, Inc., and the Texas Office of Public Utility Counsel. The Commission addressed the petition filed by One Call Communications, Inc. in a subsequent order, 68 FR 43327, July 22, 2003, and the Texas Office of Public Utility Counsel withdrew its petition on July 27, 2000.

Since these petitions were filed, there has been a court of appeals decision and additional Commission orders addressing the rules adopted in the CALLS Order, including a decision by the United States Court of Appeals for the Fifth Circuit, an order on remand, 68 FR 50077, August 20, 2003, and an order on reconsideration, 68 FR 43327, July 22, 2003. In addition, the reform proposal adopted in the CALLS Order has reached the end of its five-year term and the Commission is developing a record on comprehensive intercarrier compensation reform in CC Docket No. 01-92 and on regulation of special access services in WC Docket No. 05-25. Issues raised in the pending petitions for reconsideration may therefore have become moot or outdated. As a result, it was not clear whether issues arising out of the CALLS Order, if any, remained in dispute.

On March 5, 2007, the Wireline Competition Bureau (the Bureau) released a public notice inviting interested parties to update the record pertaining to petitions for reconsideration filed with respect to the rules the Commission adopted in the CALLS Order, 72 FR 13283, March 21, 2007. Specifically, the Bureau requested that parties that filed petitions for reconsideration of the CALLS Order file a supplemental notice indicating those issues that they still wish to be reconsidered. On April 5, 2007, COMPTEL and Broadwing Communications, LLC, the successors to ALTS and Focal respectively, withdrew their petition for reconsideration. Thus, the only remaining petition for reconsideration is that filed by Pathfinder. No other notices were received in response to the request to update the record pertaining to petitions for reconsideration. Due to the passage of time, the fact that the CALLS Order has reached the end of its term and the Commission is considering comprehensive reform of the access charge regime, and the fact that no other notices to pursue the petition were received, the Commission hereby dismisses the remaining petition as moot.

Authority: 47 U.S.C. 151-154, 201-209, 218-222, 254, 403.

Federal Communications Commission.
Kirk S. Burgee,
Chief of Staff, Wireline Competition Bureau.

[FR Doc. E7-14594 Filed 7-31-07; 8:45 am]

BILLING CODE 6712-01-P